NUCLEAR REGULATORY COMMISSION

[Docket No. 55-63784-SP; ASLBP No. 19-961-01-SP-BD01]

Establishment of Atomic Safety and Licensing Board: Andres Paez

Pursuant to delegation by the Commission, see 37 FR 28,710; December 29, 1972, and the Commission's regulations, see, e.g., 10 CFR 2.104, 2.105, 2.300, 2.309, 2.313, 2.318, 2.321, notice is hereby given that an Atomic Safety and Licensing Board (Board) is being established to preside over the following proceeding:

Andres Paez

(Denial of Senior Reactor Operator License)

This proceeding concerns a hearing request from Andres Paez, dated December 5, 2018, in response to an examination appeal resolution letter from the Office of Nuclear Reactor Regulation notifying him that, following administrative review, the NRC is in agreement with the decision of Region II to deny a senior reactor operator license for the St. Lucie Station.

The Board is comprised of the following Administrative Judges:

• William J. Froehlich, Chairman, Atomic Safety and Licensing Board Panel, U.S. Nuclear Regulatory Commission, Washington, DC 20555-0001

• Ronald M. Spritzer, Atomic Safety and Licensing Board Panel, U.S. Nuclear Regulatory Commission, Washington, DC 20555-0001

• Dr. Anthony J. Baratta, Atomic Safety and Licensing Board Panel, U.S. Nuclear Regulatory Commission, Washington, DC 20555-0001

All correspondence, documents, and other materials shall be filed in accordance with the NRC E-Filing rule. See 10 CFR 2.302.

Dated: December 14, 2018, in Rockville, Maryland.
Edward R. Hawkens,
Chief Administrative Judge, Atomic Safety and Licensing Board Panel.

[FR Doc. 2018-27529 Filed 12-19-18; 8:45 am]

BILLING CODE 7590-01-P